DEPARTMENT OF TRANSPORTATION

Federal Aviation Administration

Notice of Availability and Request for Comments; Extension of Comment Period for Enhanced Airworthiness Program for Airplane Systems Advisory Circulars

AGENCY: Federal Aviation Administration (FAA), DOT.

SUMMARY: This action extends the comment period for the 12 draft advisory circulars (ACs) related to the Enhanced Airworthiness Program for Airplane Systems proposed rule, which was published on October 6, 2005. The 12 Notices of availability for the draft ACs include an earlier close of comment period date than the proposed rule. The purpose of this action is to make the close of comment period date for the 12 draft ACs and the proposed rule the same.

DATES: Comments must be received on or before February 3, 2006.

ADDRESSES: Send all comments on the proposed ACs, except for AC 25-XX to: Federal Aviation Administration, Attention: Stephen Slotte, ANM-111, Airplane & Flight Crew Interface, 1601 Lind Avenue, SW., Renton, WA 98055-4056; telephone (425) 227-2315; facsimile (425) 227-1320, e-mail steve.slotte@faa.gov. Send comments on proposed AC 25-XX to: Federal Aviation Administration, Attention: Mike Zielinski, Manager, ANM-105, AFS Liaison Program, 1601 Lind Avenue, SW., Renton, WA 98055-4056; telephone (425) 227-2279; facsimile (425) 227-1100, e-mail mike.zielinski@faa.gov. Comments may be inspected at the above address between 7:30 a.m. and 4 p.m. weekdays, except Federal holidays.

FOR FURTHER INFORMATION CONTACT: Annette Kovite, Transport Standards Staff, at the address under the ADDRESS heading, telephone (425) 227-1262.

SUPPLEMENTARY INFORMATION:

Comments Invited

We invite interested persons to comment on the proposed ACs by sending such written data, views, or arguments, as you may desire. Commenters should identify each AC that your comments apply to. Also, you should send your comments in duplicate to the address specified above.

The FAA will consider all communications received on or before the closing date for comments before issuing the final ACs. You can find and download each of the 12 proposed ACs, at http://www.airweb.faa.gov/rgl under “Draft Advisory Circulars.” A paper copy of the proposed ACs may be obtained by contacting the person named above under the caption FOR FURTHER INFORMATION CONTACT.

Discussion

On October 6, 2005, the FAA published in the Federal Register the Notices of availability for 11 of the 12 ACs related to the “Enhanced Airworthiness Program for Airplane Systems” proposed rule. The close of comment period date for these notices is December 5, 2005. The FAA published the Notice of availability for the twelfth AC, AC 120-XX, in the Federal Register on October 18, 2005. The close of comment period date for this AC is December 19, 2005. The proposed rule (70 FR 58508), which also was published on October 6, 2005, contains a close of comment period date of February 3, 2006. The FAA's intent was to have the same close of comment period date for the draft ACs and proposed rule.

The following is a list of the draft ACs in question that are open for comment, and the Federal Register citations for the Notices of availability, which give information about the subject matter the ACs address:

AC 25-XX—Subpart I, Continued Airworthiness and Safety Improvements (70 FR 58567)

AC 25-YY—Development of Standard Wiring Practices Documentation (70 FR 58562)

AC 25.1353-1—Electrical Equipment and Installations (70 FR 58564)

AC 25.1357-1X—Circuit Protective Devices (70 FR 58565)

AC 25.1360-1X—Protection Against Injury (70 FR 58565)

AC 25.1362-1X—Electrical Supplies for Emergency Conditions (70 FR 58566)

AC 25.1365-1X—Electrical Appliances, Motors, and Transformers (70 FR 58566)

AC 25.17XX—Certification of Electrical Wiring Interconnection Systems on Transport Category Airplanes (70 FR 58562)

AC 25.869-1—Fire Protection Systems (70 FR 58563)

AC 25.899-1—Electrical Bonding and Protection Against Static Electricity (70 FR 58564)

AC 120-YY—Aircraft Electrical Wiring Interconnection Systems Training Program (70 FR 58563)

AC 120-XX—Program to Enhance Transport Category Airplane Electrical Wiring Interconnection System Maintenance (70 FR 60597)

With this action, the FAA extends the comment period for each of the 12 draft ACs to February 3, 2006 to coincide with the comment period for the EAPAS proposed rule.

Issued in Washington, DC on November 1, 2005.
James J. Ballough,
Director, Flight Standards Service, Aviation Safety.
John J. Hickey,
Director, Flight Standards Service, Aviation Safety.

[FR Doc. 05-22250 Filed 11-7-05; 8:45 am]

BILLING CODE 4910-13-P